ENVIRONMENTAL PROTECTION AGENCY

[OPP-2002-0163; FRL-7283-8]

Primisulfuron-methyl; Report of the FQPA Tolerance Reassessment Progress and Risk Management Decision (TRED); Notice of Availability

AGENCY: Environmental Protection Agency (EPA).

ACTION: Notice.

SUMMARY: This notice announces the availability of the “Report of the Food Quality Protection Act (FQPA) Tolerance Reassessment Progress and Risk Management Decision (TRED) for Primisulfuron-methyl.” EPA has reassessed the 24 tolerances, or legal limits, established for residues of primisulfuron-methyl in/on raw agricultural commodities. These tolerances are now considered safe under the Federal Food, Drug, and Cosmetic Act (FFDCA), as amended by the FQPA of 1996.

FOR FURTHER INFORMATION CONTACT: Christina Scheltema, Special Review and Reregistration Division (7508C), Office of Pesticide Programs, Environmental Protection Agency, 1200 Pennsylvania Ave., NW., Washington, DC 20460-0001; telephone number: (703) 308-2201; fax number: (703) 308-8005; e-mail address: scheltema.christina@epa.gov.

SUPPLEMENTARY INFORMATION:

I. General Information

A. Does this Action Apply to Me?

This action is directed to the public in general, but will be of interest to a wide range of stakeholders, including environmental, human health, and agricultural advocates; the chemical industry; pesticide users; and members of the public interested in the use of pesticides. The Agency has not attempted to describe all the persons or entities who may be interested in or affected by this action. If you have questions in this regard, consult the person listed under FOR FURTHER INFORMATION CONTACT.

B. How Can I Get Copies of this Document and Other Related Information?

1. Docket. EPA has established an official public docket for this action under docket identification (ID) number OPP-2002-0163. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. To access the TRED document and fact sheet electronically, go directly to the REDs table on the EPA Office of Pesticide Programs web site, at http://www.epa.gov/pesticides/reregistration/status.htm. For a complete list of available documents supporting the TRED, see the electronic version of the public docket, which is available through EPA's electronic public docket and comment system, EPA Dockets. You may use EPA Dockets at http://www.epa.gov/edocket/ to submit or view public comments for documents that are open to public comment, to access the index listing of the contents of the official public docket, and to access those documents in the public docket that are available electronically. Once in the system, select “search,” then key in the appropriate docket ID number or chemical name.

Certain types of information will not be placed in the EPA Dockets. Information claimed as CBI and other information whose disclosure is restricted by statute, which is not included in the official public docket, will not be available for public viewing in EPA's electronic public docket. EPA's policy is that copyrighted material will not be placed in EPA's electronic public docket, but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

II. What Action is the Agency Taking?

EPA has assessed the risks associated with current and proposed food uses of primisulfuron-methyl, reassessed 24 existing tolerances, and reached a tolerance reassessment and risk management decision. The Agency is announcing the availability of the resulting report of the FQPA Tolerance Reassessment Progress and Risk Management Decision for Primisulfuron-methyl, also known as a TRED.

EPA must review tolerances and tolerance exemptions that were in effect when FQPA was enacted in August 1996, to ensure that these existing pesticide residue limits for food and feed commodities meet the safety standard established by the new law. Tolerances are considered reassessed once the safety finding has been made or a tolerance revocation occurs. EPA has reviewed and made the requisite safety finding for the tolerances established for residues of primisulfuron-methyl in/on raw agricultural commodities.

The Agency has determined that there are no dietary (food or drinking water) or aggregate risks of concern from the use of primisulfuron-methyl, so mitigation of these risks is not necessary. EPA is able to make the FQPA safety finding for all current and proposed uses of primisulfuorn-methyl. Therefore, 23 existing tolerances for primisulfuron-methyl have been reassessed and remain unchanged, and 1 tolerance on sweet corn will be revoked because current labels prohibit use on sweet corn. Although EPA is considering a petition for a new use on Kentucky bluegrass grown for seed, the Agency has not yet made a decision to register this new use or establish any associated tolerances.

EPA works extensively with affected parties to reach the tolerance reassessment decisions presented in TREDs. Therefore, the Agency is issuing the primisulfuron-methyl TRED as a final decision without a formal public comment period.

List of Subjects

Environmental protection, Pesticides and pests, Primisulfuron-methyl.

Dated: December 19, 2002.
Lois A. Rossi,
Director, Special Review and Reregistration Division, Office of Pesticide Programs.

[FR Doc. 03-630 Filed 1-14-03; 8:45 am]

BILLING CODE 6560-50-S